DEPARTMENT OF THE INTERIOR

National Park Service

[NPS-WASO-NAGPRA-NPS0035782; PPWOCRADN0-PCU00RP14.R50000]

Notice of Inventory Completion: Office of the State Archaeologist, University of Iowa, Iowa City, IA

AGENCY: National Park Service, Interior.

ACTION: Notice.

SUMMARY: In accordance with the Native American Graves Protection and Repatriation Act (NAGPRA), the Office of the State Archaeologist Bioarchaeology Program, previously listed as the Office of the State Archaeologist Burials Program, has completed an inventory of human remains and associated funerary objects and has determined that there is no cultural affiliation between the human remains and associated funerary objects and any Indian Tribe. The human remains and associated funerary objects were removed from Christian County, KY, and Davidson County, TN.

DATES: Disposition of the human remains and associated funerary objects in this notice may occur on or after June 5, 2023.

ADDRESSES: Dr. Lara Noldner, Office of the State Archaeologist Bioarchaeology Program, University of Iowa, 700 S Clinton Street, Iowa City, IA 52242, telephone (319) 384-0740, email lara-noldner@uiowa.edu.

SUPPLEMENTARY INFORMATION: This notice is published as part of the National Park Service's administrative responsibilities under NAGPRA. The determinations in this notice are the sole responsibility of the Office of the State Archaeologist Bioarchaeology Program. The National Park Service is not responsible for the determinations in this notice. Additional information on the determinations in this notice, including the results of consultation, can be found in the inventory or related records held by the Office of the State Archaeologist Bioarchaeology Program.

Description

At an unknown date, human remains representing, at minimum, three individuals were removed from an unknown site near Hopkinsville, in Christian County, KY. At an unknown date, the human remains came into the possession of a private collector in Fort Madison, IA. After the collector's death in 1994, the human remains were transferred to the Office of the State Archaeologist Bioarchaeology Program. The cranial and dental remains (Burial Project 785) belong to one elderly adult male and two adults of indeterminate age and sex. No known individuals were identified. No associated funerary objects are present.

At an unknown date, human remains representing, at minimum, two individuals were removed from an unknown site in Davidson County, TN. These human remains cannot be attributed to a particular archeological context. At some point, the human remains came into the possession of a private collector in Fort Madison, IA. After the collector's death in 1994, the human remains were transferred to the Office of the State Archaeologist Bioarchaeology Program. The cranial and dental remains (Burial Project 785) belong to one young-to-middle-aged adult male and one adult of undetermined age and sex. No known individuals were identified. The one associated funerary object is a chert projectile point likely dating to the Late Woodland period.

Aboriginal Land

The human remains and associated funerary objects in this notice were removed from known geographic locations. These locations are the aboriginal lands of one or more Indian Tribes. The following information was used to identify the aboriginal land: treaties.

Determinations

Pursuant to NAGPRA and its implementing regulations, and after consultation with the appropriate Indian Tribes, the Office of the State Archaeologist Bioarchaeology Program has determined that:

• The human remains described in this notice represent the physical remains of five individuals of Native American ancestry.

• The one object described in this notice is reasonably believed to have been placed with or near individual human remains at the time of death or later as part of the death rite or ceremony.

• No relationship of shared group identity can be reasonably traced between the human remains and associated funerary objects and any Indian Tribe.

• The human remains and associated funerary object described in this notice were removed from the aboriginal land of the Cherokee Nation; Eastern Band of Cherokee Indians; Shawnee Tribe; The Chickasaw Nation; The Choctaw Nation of Oklahoma; and the United Keetoowah Band of Cherokee Indians in Oklahoma.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after June 5, 2023. If competing requests for disposition are received, the Office of the State Archaeologist Bioarchaeology Program must determine the most appropriate requestor prior to disposition. Requests for joint disposition of the human remains and associated funerary objects are considered a single request and not competing requests. The Office of the State Archaeologist Bioarchaeology Program is responsible for sending a copy of this notice to the Indian Tribes identified in this notice.

Authority: Native American Graves Protection and Repatriation Act, 25 U.S.C. 3003, and the implementing regulations, 43 CFR 10.9 and 10.11.

Dated: April 25, 2023.
Melanie O'Brien,
Manager, National NAGPRA Program.

[FR Doc. 2023-09586 Filed 5-4-23; 8:45 am]

BILLING CODE 4312-52-P